DEPARTMENT OF AGRICULTURE

Forest Service

Notice of Meeting; Southwest Oregon Provincial Advisory Committee

SUMMARY: The Siskiyou Resource Advisory Committee will meet on Tuesday, July 27, 2004 for (1) updates from working groups; (2) a report on the May NW Forest Plan Implementation monitoring field review on the Umpqua NF; (3) a presentation from the Oregon Caves National Monument; (4) an overview of the National Fire Plan; and (5) an update on interagency fire management plans. The meeting will be held at the Rogue River-Siskiyou National Forest's Illinois Valley Ranger District office in Cave Junction. It begins at 9 a.m., ends at 5 p.m., and the open public forum begins at 11:30 a.m. with a 4-minute limitation per individual presentation. Written comments may be submitted prior to the meeting and delivered to Designated Federal Official Scott Conroy at the Rogue River-Siskiyou National Forest, PO Box 520, Medford, OR 97501.

FOR FURTHER INFORMATION CONTACT: Rogue River-Siskiyou National Forest Public Affairs Officer Mary T. Marrs at (541) 858-2211, e-mail: mmarrs@fs.fed.us, or USDA Forest Service, PO Box 520, 333 West 8th Street, Medford, OR, 97501.

Dated: June 24, 2004.
Virginia Grilley,
Deputy Forest Supervisor, Rogue River-Siskiyou National Forest.

[FR Doc. 04-14928 Filed 6-30-04; 8:45 am]

BILLING CODE 3410-11-M